DEPARTMENT OF ENERGY

Federal Energy Regulatory Commission

Combined Notice of Filings #2

Take notice that the Commission received the following electric rate filings:

Docket Numbers: ER12-21-002.

Applicants: Agua Caliente Solar, LLC.

Description: Clarification of Notice of Change in Status for Agua Caliente.

Filed Date: 1/13/12.

Accession Number: 20120113-5365.

Comments Due: 5 p.m. ET 1/27/12.

Docket Numbers: ER12-33-001.

Applicants: Midwest Independent Transmission System Operator, Inc.

Description: Midwest Independent Transmission System Operator, Inc. submits tariff filing per 35: 01-17-12 Schedule 10-G Compliance Filing to be effective 12/31/2011.

Filed Date: 1/17/12.

Accession Number: 20120117-5011.

Comments Due: 5 p.m. ET 2/7/12.

Docket Numbers: ER12-101-001.

Applicants: Midwest Independent Transmission System Operator, Inc.

Description: Midwest Independent Transmission System Operator, Inc. submits tariff filing per 35: C004-P11 FCA Compliance (1-17-12) to be effective 10/18/2011.

Filed Date: 1/17/12.

Accession Number: 20120117-5118.

Comments Due: 5 p.m. ET 2/7/12.

Docket Numbers: ER12-109-000.

Applicants: Arizona Public Service Company.

Description: Arizona Public Service Company submits tariff filing per 35.19a(b): Refund Calculations—NTUA, Dry Lake Wind, Dry Lake Wind II and Glendale Energy to be effective N/A.

Filed Date: 1/17/12.

Accession Number: 20120117-5143.

Comments Due: 5 p.m. ET 2/7/12.

Docket Numbers: ER12-110-000.

Applicants: Arizona Public Service Company.

Description: Arizona Public Service Company submits tariff filing per 35.19a(b): Refund for Rate Schedule 255 with Luke Air Force Base to be effective N/A.

Filed Date: 1/17/12.

Accession Number: 20120117-5142.

Comments Due: 5 p.m. ET 2/7/12.

Docket Numbers: ER12-281-001.

Applicants: Northampton Generating Company, L.P.

Description: Northampton Generating Company, L.P. submits tariff filing per 35: Northampton First Revised MBR Tariff to be effective 1/18/2012.

Filed Date: 1/17/12.

Accession Number: 20120117-5186.

Comments Due: 5 p.m. ET 2/7/12.

Docket Numbers: ER12-372-000.

Applicants: ITC Midwest LLC.

Description: ITC Midwest LLC submits tariff filing per 35.19a(b): Filing of Refund Report to be effective N/A.

Filed Date: 1/17/12.

Accession Number: 20120117-5159.

Comments Due: 5 p.m. ET 2/7/12.

Docket Numbers: ER12-815-000.

Applicants: Duke Energy Vermillion II, LLC.

Description: Duke Energy Vermillion II, LLC submits tariff filing per 35.15: Cancellation of Tariff Database to be effective 1/17/2012.

Filed Date: 1/17/12.

Accession Number: 20120117-5012.

Comments Due: 5 p.m. ET 2/7/12.

Docket Numbers: ER12-816-000.

Applicants: PJM Interconnection, L.L.C., American Electric Power Service Corporation.

Description: PJM Interconnection, L.L.C. submits tariff filing per 35.13(a)(2)(iii: AEPSC submits 30th Revised SA No. 1336 among AEPSC & Buckeye to be effective 1/18/2012.

Filed Date: 1/17/12.

Accession Number: 20120117-5198.

Comments Due: 5 p.m. ET 2/7/12.

Take notice that the Commission received the following public utility holding company filings:

Docket Numbers: PH12-6-000.

Applicants: IIF US Holding 2 GP, LLC.

Description: Notification of Material Change in Facts and Update of FERC 65-A Notification of Exemption of IIF US Holding 2 GP, LLC.

Filed Date: 1/17/12.

Accession Number: 20120117-5099.

Comments Due: 5 p.m. ET 2/7/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 17, 2012.
Nathaniel J. Davis, Sr.,
Deputy Secretary.

[FR Doc. 2012-1425 Filed 1-24-12; 8:45 am]

BILLING CODE 6717-01-P